DEPARTMENT OF COMMERCE

International Trade Administration

[A-570-914]

Notice of Postponement of Preliminary Determination of Antidumping Duty Investigation: Light-Walled Rectangular Pipe and Tube From the People's Republic of China

AGENCY: Import Administration, International Trade Administration, Department of Commerce.

DATES: Effective Date: November 21, 2007.

FOR FURTHER INFORMATION CONTACT: Jeff Pedersen or Drew Jackson, AD/CVD Operations, Office 4, Import Administration, International Trade Administration, U.S. Department of Commerce, 14th Street and Constitution Avenue, NW., Washington, DC 20230; telephone: (202) 482-2769 or (202) 482-4406, respectively.

SUPPLEMENTARY INFORMATION:

Postponement of Preliminary Determination

On July 17, 2007, the Department of Commerce (Department) initiated the antidumping duty investigation of light-walled rectangular pipe and tube from the People's Republic of China. See Initiation of Antidumping Duty Investigations: Light-Walled Rectangular Pipe and Tube from Republic of Korea, Mexico, Turkey, and the People's Republic of China, 72 FR 40274 (July 24, 2007) (Initiation Notice). The notice of initiation stated that, unless postponed, the Department would make its preliminary determination for this antidumping duty investigation no later than 140 days after the date of issuance of the initiation notice. See Initiation Notice, 72 FR at 40279.

Under section 733(c)(1)(B) of the Tariff Act of 1930, as amended (the Act), the Department can extend the period for reaching a preliminary determination until not later than 190 days after the date on which the administrative authority initiates an investigation if the Department concludes that the parties concerned are cooperating and determines that: (i) The case is extraordinarily complicated by reason of (I) the number and complexity of the transactions to be investigated or adjustments to be considered, (II) the novelty of the issues presented, or (III) the number of firms whose activities must be investigated, and (ii) additional time is necessary to make the preliminary determination.

We have determined that this investigation is extraordinarily complicated within the meaning of section 733(c)(1)(B)(i) of the Act. Specifically, on November 1, 2007, the petitioners in this investigation, Allied Tube and Conduit, Atlas Tube, California Steel and Tube, EXLTUBE, Hannibal Industries, Leavitt Tube Company, Maruichi American Corporation, Searing Industries, Southland Tube, Vest Inc., Welded Tube, and Western Tube and Conduit, filed a targeted dumping allegation regarding the mandatory respondents in this investigation, Zhangjiagang Zhongyuan Pipe-Making Co., Ltd., and Kunshan Lets Win Steel Machinery Co., Ltd. This allegation will involve substantial analysis and deliberations. Further, the Department requires additional time to gather more information from all the mandatory respondents in order to identify surrogate values for all factors of production and to gather all information needed to evaluate the separate-rate applications. Finally, the Department has not yet received all responses to its initial supplemental questionnaires, and thus requires more time to analyze the responses and issue any additional supplemental questionnaires, as needed.

Therefore, for the reasons identified above, we are postponing the preliminary determination under section 733(c)(1)(B) of the Act by fifty days from December 4, 2007 to January 23, 2008.

This notice is issued and published pursuant to sections 733(c)(2) of the Act and 19 CFR 351.205(f)(1).

Dated: November 14, 2007.
David M. Spooner,
Assistant Secretary for Import Administration.

[FR Doc. E7-22753 Filed 11-20-07; 8:45 am]

BILLING CODE 3510-DS-P